DEPARTMENT OF TRANSPORTATION

Federal Aviation Administration

Commercial Routes for the Grand Canyon National Park Special Flight Rules Area

AGENCY: Federal Aviation Administration, DOT.

ACTION: Notice of availability and request for comments.

SUMMARY: This notice announces the availability of and requests comments on commercial routes for the Grand Canyon National Park (GCNP) Special Flight Rules Area (SFRA). The commercial routes are not being published in today's Federal Register because they are on very large and very detailed charts that would not publish well in the Federal Register. The modifications are related to safety concerns identified by air tour operators and evaluated by the Federal Aviation Administration (FAA). With this notice, the FAA invites comments on the modifications of these routes. This notice solely proposes administrative changes in air tour routes to improve safety; it has no effect on the Airspace Modification rule published in April 2000 nor any effect on the Commercial Operations Limitation rule also approved in April 2000.

DATES: Comments must be received on or before January 12, 2001.

ADDRESSES: Comments on the proposed commercial air tour routes may be delivered or mailed, in duplicate to: Federal Aviation Administration, Attention: Gary Davis, Air Transportation Division, Flight Standards Service, AFS-201, Rm 831, 800 Independence Avenue, SW., Washington, DC 20591. Comments may be examined at the above address between 9 a.m. and 4 p.m. weekdays, except Federal holidays.

FOR FURTHER INFORMATION CONTACT: Howard Nesbitt, Special Assistant for National Parks, Flight Standards Service, 800 Independence Avenue, SW., Washington, DC 20591, Telephone (202) 493-4981.

SUPPLEMENTARY INFORMATION: The FAA is not publishing the commercial routes in today's Federal Register because they are on very large and very detailed charts that would not publish well in the Federal Register. You may obtain a copy of the commercial routes by contacting Denise Cashmere at (202) 267-3717, by faxing a request to (202) 267-5229, or by sending a request in writing to the Federal Aviation Administration, Air Transportation Division, AFS-200, 800 Independence Avenue, SW., Washington, DC 20591. You may comment on the routes as you desire, but you must identify that you are commenting on the commercial routes for Grand Canyon National Park. The FAA will consider all comments received on or before the closing date for comments before finalizing the air tour routes. The FAA will consider late-filed comments to the extent practicable.

History

On April 4, 2000, the Federal Aviation Administration published two final rules the Modification of the Dimensions of the Grand Canyon National Park Special Flight Rules Area and Flight Free Zones (Air Space Modification), and the Commercial Air Tour Limitation in the Grand Canyon National Park Special Flight Rules Area (Commercial Air Tour Limitation). See 65 FR 17736; 65 FR 17708; April 4, 2000. The FAA also simultaneously published a notice of availability of Commercial Routes for the Grand Canyon National Park (Routes Notice). See 65 FR 17698, April 4, 2000. The Commercial Air Tour Limitations final rule became effective on May 4, 2000. the Air Space Modification final rule and the routes set forth in the Routes Notice were scheduled to become effective December 1, 2000. The effective date of the Air Space Modification final rule and the new routes was extended to provide the air tour operators ample opportunity to train on the new route system during the non-tour season. The Final Supplemental Environmental Assessment for Special Flight Rules in the Vicinity of Grand Canyon National Park (SEA) was completed on February 22, 2000, and the Finding of No Significant Impact was issued on February 25, 2000.

On May 8, 2000, The United States Air Tour Association (USATA) and seven air tour operators (hereinafter collectively referred to as the Air tour Providers) filed a petition for review of the two final rules before the United States Court of Appeals for the District of Columbia Circuit. The FAA, The Department of Transportation, the Department of Interior, the National Park Service (NPS) and various federal officials were named as respondents in this action. On May 30, 2000, the Air Tour Providers filed a motion for stay pending review before the Court of Appeals. The federal respondents in this case filed a motion for summary denial on grounds that petitioners had not exhausted their administrative remedies. The Court granted the federal respondents summary denial on July 19, 2000. The Grand Canyon Trust, the National Parks and Conservation Association, the Sierra Club, the Wilderness Society, Friends of the Grand Canyon and Grand Canyon River Guides, Inc. (hereinafter will collectively referred to The Trust) filed a petition for review of the same rules on May 22, 2000. The Court, by motion of the federal respondents, consolidated that case with that of the Air Tour Providers. The Hualapai Indian Tribe of Arizona filed a motion to intervene in the Air Tour Providers petition for review on June 23, 2000. The Court granted that motion on July 19, 2000.

On July 31, 2000, the Air Tour Providers filed a motion for stay before the FAA. Both the Hualapai Indian Tribe and the Trust filed oppositions to the Air Tour Providers' stay motion. On October 11, 2000, (65 FR 60352) the FAA published a disposition of the stay request, denying the stay. On October 25, 2000, the Air Tour Providers filed a Motion for Stay and Emergency Relief Pending Review of an Agency Order with the Court of Appeals. The federal respondents filed their Opposition of Petitioner's Motion for Stay Pending Review and Notification of Administrative Stay of Route and Airspace Rules on November 2, 2000. The FAA then issued an administrative stay of the routes and airspace until December 28, 2000 so that it could further investigate some new safety allegations raised by the Air Tour Providers during the course of litigation (65 FR 69846 and 65 FR 69848; November 20, 2000).

Discussion

The Air Tour Providers petitioned the United States Court of Appeals for the District of Columbia Circuit for a review of the FAA's Commercial Air Tour Limitations final rule and the Airspace Modification final rule. During the ensuing litigation, the Air Tour Providers brought forth several new safety issues regarding the east end routes in the Dragon Corridor, the area north of the Zuni Point Corridor and around the Desert View Flight Free Zone that were not clearly articulated in prior comments to the agency during the rulemaking process. The FAA has investigated the safety issues and has, in consultation with the NPS, developed suggested map changes to the routes to improve safety in the Dragon Corridor and the area north of the Zuni Point Corridor, and around the Desert View Flight Free Zone. These changes are reflected in the map that is the subject of this Notice. The routes in the Marble Canyon area, Sanup region (the west end of GCNP), and the routes running east to west across the SFRA are not reopened under this Routes Notice. However, for purposes of completeness, these routes are shown on the map together with the routes that are open for comment (Dragon, Zuni Point, Kaibab Plateau and around Desert View Flight Free Zone).

The Dragon Corridor (Green Route 2/2R) would be modified by extending the turnaround approximately up to the future incentive corridor for noise efficient aircraft (also sometimes referred to as the Bright Angel Corridor). This creates a turnaround in the same place as shown on the SFAR 50-2 map. This change is necessary for safety purposes because it was brought to the FAA's attention that the turnaround on the Green 2/2R, shown on the map published on April 4, 2000, occurs in an area where pilots on the Green 2/2R would be blind to the traffic descending from the southern portion of the southbound Green 1. The FAA originally believed that this turnaround was safe because entering traffic would be able to see the length of the corridor prior to the turnaround and would be able to proceed via radio reporting. However, after further investigation, the FAA has concluded that a turnaround just before the Dragon Head would create an unacceptable safety risk, especially in certain visibility conditions or when heavy radio traffic could block some radio transmissions. Thus for safety reasons, it was determined that the turnaround should be returned to its present location as depicted on the current SFAR 50-2 route map.

The proposed Green 2/2R route is shown at 7,500 feet MSL, which is consistent with the route under SFAR 5-2. The FAA Las Vegas Flight Standards District Office (FSDO) will maintain a procedure in the “Las Vegas Grand Canyon National Park Special Flight Rules Area Procedures Manual” requiring helicopters to climb to maintain adequate terrain clearance as the Green 2 passes over the Dragon's Head and to level off at 8,300 feet MSL in preparation for the 180 degree turn back down the Corridor. Helicopters flying South on the Green 1 coming off of the Kaibab Plateau would begin descending prior to the turnaround to ensure a smooth merging of the traffic.

The other alternative considered for addressing the safety concerns at the Dragon's Head was to locate the standard route turnaround approximately a mile and a half below its current location to where the weather turnaround currently is located on the Green 2/2R, as shown on the April 4, 2000 map. However, this alternative was not significantly different than the current route structure and still placed the turnaround south of the Dragon's Head. Thus, the FAA determined that this alternative would not provide adequate line of sight visibility for oncoming traffic just prior to the turnaround and therefore would fail to address the safety issues. The FAA invites comments on this decision.

The Green 1 and Black 1 routes north of the Zuni Point Corridor would be modified to address concerns that the climb between Gunther's Castle and Pete's Corner does not ensure adequate vertical separation between fixed wing aircraft and helicopters. The FAA has separated these two routes horizontally and there would now be a slight divergence between these two routes and then they would join up as they cross the plateau. This would allow helicopters to climb to the designated altitude without concern that the helicopters might pass through the airspace occupied by the fixed wing before the fixed wing have cleared the altitude. The FAA does not anticipate that this will be a significant change in the route structure.

Additionally, the Zuni Point Corridor routes would be modified by depicting a weather route turnaround on the Green 1 and Black 1 for fixed wing and helicopter operators after the operators cross the Saddle Mountain Ridge. Based on FAA's investigation, placement of the weather route at this point would to give the operators a better opportunity to assess the weather conditions over the Kaibab Plateau and make a decision whether to proceed or turn around. The route could be used during any weather condition that affected safety of flight (turbulence, winds, thunderstorms, precipitation, etc). The operator would file a deviation with the FSDO when using the weather route. The deviation is for record keeping purposes only and would not be used to penalize the operator in any way for making a safety of flight decision.

The route structure around the Desert View Flight Free Zone would be modified by depicting weather routes that provide larger, clearer landmark navigation aids to use in visibility minimums. This address the concern that there are not adequate navigation landmarks on the Black 2 and Green 3 over the Painted Desert. The FAA investigated this allegation and determined that the navigation landmarks were adequate during good visibility. However, during marginal visibility, the route landmarks could possibly be missed, although the FAA was not able to evaluate these routes in limited visibility conditions. To ensure that operators are able to navigate this area safely in visibility minimums, the FAA has added weather routes for both fixed wing and helicopters. These routes would be closer to the Little Colorado River and its canyons and thus should be easy to navigate in marginal conditions.

The placement of weather routes on the map simply depicts an established procedure for the operators should weather conditions require. Operators are always permitted to take whatever route is necessary for safety of flight in the event of adverse weather conditions. The FAA has projected that weather routes will be used less than 5 percent of the time. Thus, the depiction of the weather routes is not a significant change from the route structure adopted April 4, 2000.

Finally, north of the Desert View Flight Free Zone the FAA would add an entrance (2E-4) at 8,500 feet MSL for fixed wing aircraft, which responds to a request from the Navajo Nation. Pursuant to this request, the FAA reevaluated its decision in the April 4, 2000 notice to deny an entrance at this location. The FAA was initially concerned that this entrance would cause altitude congestion. However, based on further evaluation of traffic density the FAA believes that it can achieve proper vertical separation by modifying the altitude structure. Thus, the altitude on the 2X-4 as shown on the April 4, 2000 map is raised to 9,000 feet MSL to allow for adequate vertical separation and the altitude for helicopters on the Green 3X remains at 7,500 feet MSL. While this entrance is not necessary for safety of flight and thus is different than the other changes noted above, the FAA has decided to include this change at this time, provided that doing so does not hinder the adoption of any changes necessary for safety of flight. If this matter becomes controversial, the FAA may decide to remove this change from this map and handle it as a separate matter at a later date.

The FAA has determined that the revisions to the route map outlined in this Notice are not significant changes to the current route structure at GCNP. The location of the turnaround in the Dragon Corridor is depicted in the identical location as under SFAR 50-2. In addition, the slight route deviation north of Zuni Point Corridor between Gunther's Castle and Pete's Corner are minor changes that will make important improvements to the safety of flight. The weather routes north of the Zuni Point Corridor and around Desert View Flight Free Zone simply depict established deviations from the standard route structure that operators currently could take if necessary for safety of flight. Finally, the addition of an entrance for fixed wing aircraft North of the Desert View Flight Free Zone will be located in the same area as the exit routes shown on the April 4, 2000 map.

The FAA is completing a written reevaluation to determine whether the contents of the previous Supplemental Environmental Assessment remain valid and what, if any, impact these slight route changes will have on substantial restoration of natural quiet at GCNP. While the FAA is not required to publish the written reevaluation, the FAA intends to make it publicly available in January 2001. The revisions to the route map outlined in this Notice will address the safety concerns and allow the FAA to implement these routes by spring 2001 so they will be in place by the summer 2001 season.

Issued in Washington, DC on December 11, 2000.
L. Nicholas Lacey,
Director of Flight Standards Service.

[FR Doc. 00-31933 Filed 12-11-00; 4:04 pm]

BILLING CODE 4910-13-M